DEPARTMENT OF LABOR

Employment and Training Administration

[TA-W-53,432]

Millennium A.R. Haire, Thomasville, NC; Notice of Termination of Investigation

Pursuant to section 221 of the Trade Act of 1974, as amended, an investigation was initiated on November 4, 2003, in response to a petition filed by a company official on behalf of workers at Millennium A.R. Haire, Thomasville, North Carolina.

The petitioner has requested that the petition be withdrawn. Consequently, the investigation has been terminated.

Signed at Washington, DC, this 8th day of December, 2003.
Linda G. Poole,
Certifying Officer, Division of Trade Adjustment Assistance.

[FR Doc. 03-31457 Filed 12-19-03; 8:45 am]

BILLING CODE 4510-30-P